DEPARTMENT OF HEALTH AND HUMAN SERVICES

Centers for Disease Control and Prevention

National Center for Injury Prevention and Control (NCIPC) Advisory Committee for Injury Prevention and Control (ACIPC)

In accordance with Section 10(a)(2) of the Federal Advisory Committee Act (Pub. L. 92-463), the Centers for Disease Control and Prevention (CDC), announces the following subcommittee and committee meetings:

Name: Science and Program Review Subcommittee (SPRS).

Time and Date: 10:30 a.m.-12:30 p.m., June 25, 2008.

Place: The teleconference will originate at CDC, 4770 Buford Highway, NE., Building 106, Ninth Floor, Room 108E, Atlanta, Georgia 30341. To participate, dial (877) 934-7121 and enter conference code 8396688.

Status: Open: 10:30 a.m.-10:45 a.m., June 25, 2008. Closed: 10:45 a.m.-12:30 p.m., June 25, 2008.

Purpose: The Science and Program Review Subcommittee provides advice on the needs, structure, progress and performance of programs of the National Center for Injury Prevention and Control.

Matters To Be Discussed: The subcommittee will meet June 25, 2008, to provide a secondary review of, discuss, and evaluate the individual research grant and cooperative agreement applications submitted in response to Fiscal Year 2008. Requests for Applications (RFAs) related to the following individual research announcements: 08001, Youth Violence through Community-Level Change; 08002, Grants for Traumatic Injury Biomechanics and their Severity; 08003, Research for Prevention Violence and Violence Related Injury; 08004, Translation Research to Prevent Motor Vehicle-Related Crashes and Injuries to Teen Drivers and Their Passengers; 08005, Dissertation Grant Awards for Doctoral Candidates for Violence-Related Injury Prevention Research in Minority Communities; 08006, Feasibility of Acute Concussion Management in the Emergency Department; and 08007, Assessing the Effects of Interpersonal Violence Prevention on Suicide. The applications being reviewed include information of a confidential nature, including personal and financial information concerning individuals associated with the applications. Following this meeting, the voting members of ACIPC will meet via teleconference to vote on the recommendations of the SPRS regarding the RFAs. This conference call will take place on June 27, 2008.

Name: Advisory Committee for Injury Prevention and Control.

Time and Date: 11:30 a.m.-12:30 p.m., June 27, 2008.

Place: The teleconference will originate at CDC, 4770 Buford Highway, NE., Building 106, Sixth Floor, Room 6A, Atlanta, Georgia 30341. To participate, dial (877) 934-7121 and enter conference code 8396688.

Status: Open: 11:30 a.m.-11:55 a.m., June 27, 2008. Closed: 11:55 a.m.-12:30 p.m., June 27, 2008.

Purpose: The committee advises and makes recommendations to the Secretary, Department of Health and Human Services, the Director, Centers for Disease Control and Prevention, and the Director, National Centers for Injury Prevention and Control regarding feasible goals for the prevention and control of injury. The committee makes recommendations regarding policies, strategies, objectives, and priorities, and reviews progress toward injury prevention and control.

Matters To Be Discussed: Agenda items for the open portion include the call to order and introductions and request for public comments. The Committee will vote on the results of the secondary review. The meeting will be closed to the public in accordance with the provisions set forth in section 552b(c)(4) and (b), title 5 U.S.C., and the Determination of the Director, Management Analysis and Services Office, CDC pursuant to Public Law 92-463. Agenda items are subject to change as priorities dictate.

Contact Person for More Information: Ms. Amy Harris, Executive Secretary, ACIPC, NCIPC, CDC, 4770 Buford Highway, NE., M/S F-63, Atlanta, Georgia 30341-3724, telephone (770) 488-4936.

The Director, Management Analysis and Services Office, has been delegated the authority to sign Federal Register notices pertaining to announcements of meetings and other committee management activities, for both CDC and the Agency for Toxic Substances and Disease Registry.

Dated: June 3, 2008.
Elaine L. Baker,
Director, Management Analysis and Services Office, Centers for Disease Control and Prevention.

[FR Doc. E8-12892 Filed 6-6-08; 8:45 am]

BILLING CODE 4163-18-P